DEPARTMENT OF THE INTERIOR

Fish and Wildlife Service

[Docket No. FWS-HQ-IA-2018-0051; FXIA16710900000-178-FF09A30000]

Foreign Endangered Species; Receipt of Permit Applications

AGENCY: Fish and Wildlife Service, Interior.

ACTION: Notice of receipt of permit applications.

SUMMARY: We, the U.S. Fish and Wildlife Service, invite the public to comment on the following applications to conduct certain activities with endangered species. With some exceptions, the Endangered Species Act (ESA) prohibits activities with listed species unless Federal authorization is acquired that allows such activities. The ESA also requires that we invite public comment before issuing these permits.

DATES: We must receive comments by July 26, 2018.

ADDRESSES:

Document availability: The applications, application supporting materials, and any comments and other materials that we receive will be available for public inspection online in Docket No. FWS-HQ-IA-2018-0051 at http://www.regulations.gov.

Submitting Comments: You may submit comments by one of the following methods:

• Internet: http://www.regulations.gov. Follow the instructions for submitting comments on Docket No. FWS-HQ-IA-2018-0051.

• U.S. mail or hand-delivery: Public Comments Processing, Attn: Docket No. FWS-HQ-IA-2018-0051; U.S. Fish and Wildlife Service Headquarters, MS: BPHC; 5275 Leesburg Pike; Falls Church, VA 22041-3803.

When submitting comments, please specify the name of the applicant and the permit number at the beginning of your comment. We will post all comments on http://www.regulations.gov. This generally means that we will post any personal information you provide us (see SUPPLEMENTARY INFORMATION for more information).

FOR FURTHER INFORMATION CONTACT: Brenda Tapia, (703) 358-2104 (telephone); DMAFR@fws.gov (email).

SUPPLEMENTARY INFORMATION:

I. Public Comment Procedures

A. How do I comment on submitted applications?

You may submit your comments and materials by one of the methods listed under Submitting Comments in ADDRESSES. We will not consider comments sent by email or fax, or to an address not in ADDRESSES. We will not consider or include in our administrative record comments we receive after the close of the comment period (see DATES).

Please make your requests or comments as specific as possible, confine your comments to issues for which we seek comments in this notice, and explain the basis for your comments. Include sufficient information with your comments to allow us to authenticate any scientific or commercial data you include. The comments and recommendations that will be most useful and likely to influence agency decisions are: (1) Those supported by quantitative information or studies; and (2) those that include citations to, and analyses of, the applicable laws and regulations.

B. May I review comments submitted by others?

As described in ADDRESSES, the applications, as well as any comments we receive, will be available for public inspection online at http://www.regulations.gov. Comments may also be viewed in person at the specified address; to make an appointment, contact the person listed in FOR FURTHER INFORMATION CONTACT.

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

With some exceptions, the Endangered Species Act of 1973, as amended (ESA; 16 U.S.C. 1531 et seq.), prohibits activities with listed species unless Federal authorization is acquired that allows such activities. Permits under section 10 of the ESA allow activities for scientific purposes or to enhance the propagation or survival of the affected species. To help us carry out our conservation responsibilities for affected species, and in consideration of section 10(a)(1)(A) of the ESA, we invite public comment on these permit applications before final action is taken.

III. Permit Applications

We invite public comment on the following permit applications. Please reference the applicant and the permit number in your comments.

Applicant: Zoological Society of San Diego, dba San Diego Zoo, San Diego, CA; Permit No. 93218C

The applicant requests a permit to re-export one live wild giant panda (Ailuropoda melanoleuca) to the China Conservation and Research Center for the Giant Panda Dujiangyan Base, Dujiangyan City, China, for the purpose of enhancing the propagation or survival of the species. This notification is for a single re-export.

Applicant: San Diego Global, dba San Diego Zoo Safari Park, San Diego, CA; Permit No. 76759C

The applicant requests a permit to export one live captive-bred black rhinoceros (Diceros bicornis) to the Singita Grumet Fund, Mugumu, Mara, Tanzania, for the purpose of enhancing the propagation or survival of the species. This notification is for a single export.

IV. Next Steps

If the Service decides to issue permits to any of the applicants listed in this notice, we will publish a notice in the Federal Register. You may locate the Federal Register notice announcing the permit issuance date by searching in www.regulations.gov under the permit number listed above in this document.

Brenda Tapia,
Program Analyst/Data Administrator, Branch of Permits, Division of Management Authority.

[FR Doc. 2018-13601 Filed 6-25-18; 8:45 am]

BILLING CODE 4333-15-P